DEPARTMENT OF EDUCATION

Meeting of the National Advisory Council on Indian Education

AGENCY: National Advisory Council on Indian Education (NACIE), U.S. Department of Education.

ACTION: Notice of meeting.

SUMMARY: This notice sets forth the schedule and proposed agenda of an upcoming meeting of the National Advisory Council on Indian Education (the Council) and is intended to notify the general public of their opportunity to attend. This notice also describes the functions of the Council. Notice of the Council's meetings is required under Section 10 (a)(2) of the Federal Advisory Committee Act and by the Council's charter.

Agenda: The purpose of the meeting will be to discuss the Federal Interagency Plan and the tasks outlined for implementation. Other topics will include Council subcommittee reports on Indian education research, No Child Left Behind (NCLB) updates, and planning for the consultation sessions as identified in Executive Order (E.O.) 13336.

Date and Time: October 26, 2004—9 a.m. to 5 p.m.

Location: Hyatt Regency Phoenix, 122 North Second Street, Phoenix, AZ 85004. Moran Room, 2nd Floor.

FOR FURTHER INFORMATION CONTACT: Bernard Garcia, Group Leader, Office of Indian Education, U.S. Department of Education, 400 Maryland Avenue, SW., Washington, DC 20202. Telephone: 202-260-1454. Fax: 202-260-7779.

SUPPLEMENTARY INFORMATION: The Council advises the Secretary of Education concerning the funding and administration (including the development of regulations, and administrative policies and practices) of any program, including any program established under Title VII, Part A of the ESEA, with respect to which the Secretary has jurisdiction and that includes Indian children or adults as participants or that may benefit Indian children or adults. The Council submits to the Congress, not later than June 30 of each year, a report on the activities of the Council, including any recommendations that the Council considers appropriate for the improvement of Federal education programs that include Indian children or adults as participations or that may benefit Indian children or adults, and recommendations concerning the funding of any such program. The Council also makes recommendations to the Secretary for filling the position of the Director of Indian Education whenever a vacancy occurs.

The purpose of E.O. 13336, dated April 30, 2004, is to assist American Indian and Alaska Native students in meeting the challenging student academic standards of the No Child Left Behind Act of 2001 (Public Law 107-110) in a manner that is consistent with tribal traditions, languages, and cultures. The E.O. establishes a Federal Interagency Working Group on American Indian and Alaska Native Education (Working Group) to oversee the implementation and the Working Group may consult with representatives of NACIE.

The general public is welcome to attend the October 26, 2004 meeting. Individuals who need accommodations for a disability in order to attend the meeting (i.e., interpreting services, assistive listening devices, materials in alternative format) should notify Bernard Garcia at 202-260-1454 by October 15, 2004. We will attempt to meet requests after this date, but cannot guarantee availability of the requested accommodation. The meeting site is accessible to individuals with disabilities.

A summary of the activities of the meeting and other related materials that are informative to the public will be available to the public within 14 days after the meeting. Records are kept of all Council proceedings and are available for public inspection at the Office of Indian Education, U.S. Department of Education, 400 Maryland Avenue, SW., Room 5C141, Washington, DC 20202.

Dated: October 7, 2004.
Rod Paige,
Secretary.

[FR Doc. 04-22977 Filed 10-13-04; 8:45 am]

BILLING CODE 4000-01-M